DEPARTMENT OF AGRICULTURE

Rural Business—Cooperative Service

2014 Farm Bill Implementation Listening Session—Healthy Food Financing Initiative

AGENCY: Rural Business—Cooperative Service, USDA.

ACTION: Notice.

SUMMARY: As part of our implementation of the Agricultural Act of 2014 (commonly referred to as the 2014 Farm Bill), the Rural Business-Cooperative Service (RBS) is hosting a listening session for public input about the Healthy Food Financing Initiative (HFFI) for which USDA has been granted new authority to implement. The 2014 Farm Bill contains a provision outlining the details of this Initiative in Section 4206.

The listening session will provide an opportunity for stakeholders to voice their comments, concerns, or requests regarding the implementation of this initiative. Instructions regarding registering for and attending the listening session are in the SUPPLEMENTARY INFORMATION section of this notice.

DATES: Listening session: The listening session will be on May 30, 2014, and will begin at 1:00 p.m. and is scheduled to end by 4:00 p.m.

Registration: You must register by May 26, 2014, to attend the in-person and to provide oral comments during the listening session.

Comments: Public comments during the listening session on May 30, 2014, will be recorded. Written comments are also due by May 30, 2014. Written comments must be submitted electronically via the Federal eRulemaking Portal: Regulations.gov.

ADDRESSES: We invite you to participate in the listening session. The listening session is open to the public. The meeting will be held at USDA headquarters, in the Whitten Building, 1400 Jefferson Drive SW., Room 107-A, Washington, DC 20250.

For participants who cannot make it to the listening session in-person, remote “listen only” participation will be available:

• All interested participants are encouraged to use this URL to listen in: http://m.onsm.com/mvp/@usda3. This is a “listen only” URL.

• For participants who do not have access to a computer, dial 1-888-790-1837. Participant passcode is USDA (given verbally). This is a “listen only” line and is very limited.

• For participants requiring special accommodation, live captioning is available here: http://www.captionedtext.com/client/event.aspx?CustomerID=190&EventID=2351577.

We invite all participants to submit comments by any of the following methods:

• Federal eRulemaking Portal: Go to http://www.regulations.gov. Follow the online instructions for submitting comments; or

• Orally at the listening session; please also provide a written copy of your comments online as specified.

FOR FURTHER INFORMATION CONTACT: Primary program point of contact is Claudette Fernandez, Phone: 202-365-5320, Email: Claudette.fernandez@wdc.usda.gov. Persons with disabilities who require alternative means for communication (Braille, large print, audio tape, etc.) should contact the USDA Target Center at (202) 720-2600 (voice and TDD).

SUPPLEMENTARY INFORMATION: On February 7, 2014, the 2014 Farm Bill (Pub. L. 113-79) was signed into law. The Secretary of Agriculture and the respective USDA agencies, including RBS, are working to implement the provisions of the 2014 Farm Bill as expeditiously as possible to meet the needs of stakeholders. To plan and implement the newly authorized HFFI program, it is important to engage with our stakeholders to learn and understand their comments, concerns, or requests.

RBS will hold the HFFI listening session on May 30, 2014, to receive oral comments from stakeholders and the public. Oral comments received from this listening session will be documented and/or recorded. All attendees of this listening session who submit oral comments must also submit a written copy to help the agency accurately capture public input. (See the ADDRESSES section above for information about submitting written comments.) In addition, stakeholders and the public who do not wish to attend or speak at the listening session are invited to submit written comments, which must be received by May 30, 2014.

At the listening session, the focus is for RBS to hear from the public; this is not a discussion with RBS officials or a question and answer session. As noted above, the purpose is to receive public input that RBS can consider in order to implement the HFFI provision of the 2014 Farm Bill.

Date: May 30, 2014.

Time: 1:00 p.m.-4:00 p.m.

Location information: USDA headquarters, in the Whitten Building, 1400 Jefferson Drive SW., Room 107A, Washington, DC 20250.

The listening session will begin with brief opening remarks from USDA leadership in Rural Development and a general background on HFFI. Individual speakers providing oral comments are requested to be succinct (no more than 5 minutes) as we do not know at this time how many participants there will be. As noted above, we request that speakers providing oral comments also provide a written copy of their comments. (See the ADDRESSES section above for information about submitting written comments.) All stakeholders and interested members of the public are welcome to register to provide oral comments; however, due to the time constraints a limited number will be selected on a first come, first serve basis.

Instructions for Attending the Meeting

Space for attendance at the meeting is limited. Due to USDA headquarters security and space requirements, all persons wishing to attend the public meeting or provide oral comments to RBS during the listening session must send an email to Claudette.Fernandez@wdc.usda.gov by May 26, 2014, to register the names of those planning to attend. Registrations will be accepted until maximum room capacity is reached. To register, provide the following information:

• First Name

• Last Name

• Organization

• Title

• Email

• Phone Number

• City

• State

Upon arrival at the USDA Whitten Building, registered persons must provide valid photo identification in order to enter the building; visitors need to enter the Whitten Building on the mall side. Please allow extra time to get through security. Additional information about the listening session, agenda, directions to get to the listening session, and how to provide comments are available at the USDA Farm Bill Web site http://www.usda.gov/wps/portal/usda/usdahome?navid=farmbill.

All written comments received will be publicly available on www.regulations.gov. If you require special accommodations, such as a sign language interpreter, use the contact information above. The listening session location is accessible to persons with disabilities.

Dated: April 30, 2014.
Lillian Salerno,
Administrator, Rural Business—Cooperative Service.

[FR Doc. 2014-10278 Filed 5-5-14; 8:45 am]

BILLING CODE 3410-XY-P